DEPARTMENT OF DEFENSE

Department of the Air Force

[Docket ID USAF-2008-0037]

Privacy Act of 1974; System of Records

AGENCY: Department of the Air Force, DoD.

ACTION: Notice to Add a System of Records.

SUMMARY: The Department of the Air Force proposes to add a system of records to its inventory of record systems subject to the Privacy Act of 1974 (5 U.S.C. 552a), as amended.

DATES: The proposed action will be effective on January 2, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on October 27, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996, (February 20, 1996, 61 FR 6427).

Dated: November 25, 2008.
Morgan E. Frazier,
Alternate OSD Federal Register Liaison Officer, Department of Defense.

F036 AF AETC B

System name:

Graduate Training Integration Management System Records.

System location:

Primary Location: Department of Air Force, HQ AETC/A3IS, Hangar 6, Suite 1, 1150 5th Street East, Randolph Air Force Base, TX 78150-4404.

Secondary Locations: Department of Air Force graduate flying training sites and each Air Force Major Command Headquarters. Official mailing addresses are published as an appendix to the Air Force's compilation of systems of records notices.

Categories of individuals covered by the system:

All students and cadre involved in the flight training operations to include active duty U.S. Air Force and U.S. Navy personnel, Air National Guard and reserve personnel, Department of Defense civilians and contractors, and foreign national military.

Categories of records in the system:

Flying Training Students: Biographical and background information: Including name, grade, and Social Security Number (SSN), source of commission, education including university, dates of attendance, graduation degree, major and date, and past training unit of assignment. Complete record of flying training including class number, section number, flying and academic courses completed; complete record of evaluations including grades on each phase of flight evaluations and overall flight evaluation performance in each category of training, flying hours; date graduated or eliminated, with reasons for elimination and Training Review Board proceedings.

Military Flying Training Instructor Cadre: Biographical and background information including name, grade, Social Security Number (SSN) and records which document aircrew training, evaluations, performance, and accomplishments.

Contractor Training Instructor Cadre: Name, Social Security Number (SSN).

Authority for maintenance of the system:

10 U.S.C. 8013, Secretary of the Air Force; AETCI 36-2205 Formal Aircrew Training Administration and Management; AETCI 36-2220, Academic Training; AETCI 36-2223, Flying Training Student Information Management; and E.O. 9397 (SSN).

Purpose:

Manages all aspects of Air Force graduate flight training. Provides scheduling of all resources—students, instructors, classrooms, classroom equipment and resource files, aircrew training (simulator) devices, aircraft, and airspace. Maintains data and provides performance evaluation and deficiency tracking of students. Manages syllabi and evaluates training course content. Monitors student performance by source of entry, education level, and minority status. Maintains training information and qualifications of graduates for follow-on training to Air National Guard/Air Force Reserve and other Air Force/Navy training units. Provides data for and documents proceedings in the event of Training Review Board actions. Maintains data and tracks the training and qualifications of instructor pilots and other training cadre.

Routine uses of records maintained in the system including categories of users and the purpose of such uses:

In addition to those disclosures generally permitted under 5 U.S.C. 552a(b) of the Privacy Act, these records or information contained therein may specifically be disclosed outside the DoD as a routine use pursuant to 5 U.S.C. 552a(b)(3) as follows:

The DoD ‘Blanket Routine Uses' published at the beginning of the Air Force's compilation of record system notices apply to this system.

Policies and practices for storing, retrieving, accessing, retaining, and disposing of records in the system:

Storage:

Paper records in file folders and electronic storage media.

Retrievability:

By individual's name and/or Social Security Number (SSN).

Safeguards:

Computer databases are located in locked servers in locked rooms in flying training classroom/laboratory buildings on Air Force installations. All training facilities with system-accessible workstations are controlled during duty hours and secured after duty hours. Access to records, (database) data, by users (including students, training cadre, flight training managers, and system administrators) is controlled by Common Access Card (CAC) identification. Authorized access to specific data is controlled in accordance with user roles and permissions. User roles and permissions are established and assigned in accordance with individual responsibilities; i.e., student, instructor, training manager, system manager.

Retention and disposal:

Hardcopy reports such as student grade book and other paper reports generated for instructor, flight commander, etc., reference, are destroyed one year after completion of training; Training Review Board records are retained for one year. Hardcopy records are destroyed by tearing into pieces, shredding, pulping, macerating or burning. Electronic records are retained as active at least two years.

System manager and address:

Department of the Air Force, Deputy Chief of Staff Operations, Headquarters Air Education and Training Command, 1 F Street, Suite 2, Randolph Air Force Base, TX 78150-4325.

Notification procedure:

Individuals seeking to determine whether information about themselves is contained in this system should address written inquiries to the Department of the Air Force, Deputy Chief of Staff Operations, Headquarters Air Education and Training Command, 1 F Street, Suite 2, Randolph Air Force Base, TX 78150-5000.

Individuals should provide in writing their full name, Social Security Number (SSN), office or organization where currently assigned, if applicable, and current home address, and telephone number. Request should be signed by the requester.

Record access procedures:

Individuals seeking access to information about themselves contained in this system of records should address written inquiries to the Department of the Air Force, Deputy Chief of Staff Operations, Headquarters Air Education and Training Command, 1 F Street, Suite 2, Randolph Air Force Base, TX 78150-5000.

Individuals should provide in writing their full name, Social Security Number, office or organization where currently assigned, if applicable, and current home address, and telephone number. Request should be signed by the requester.

Contesting records procedures:

The Air Force rules for accessing records, and for contesting contents and appealing initial agency determinations are published in Air Force Instruction 33-332; 32 CFR part 806b; or may be obtained from the system manager.

Record source categories:

Individuals and Defense Integrated Military Human Resources System.

Exemptions claimed for the system:

None.

[FR Doc. E8-28601 Filed 12-1-08; 8:45 am]

BILLING CODE 5001-06-P